ENVIRONMENTAL PROTECTION AGENCY

40 CFR Part 52

[EPA-R03-OAR-2017-0149; FRL-9970-82-Region 3]

Approval and Promulgation of Air Quality Implementation Plans; Maryland; 2011 Base Year Inventory for the 2008 8-Hour Ozone National Ambient Air Quality Standard for the Maryland Portion of the Philadelphia-Wilmington-Atlantic City Nonattainment Area; Withdrawal

AGENCY: Environmental Protection Agency (EPA).

ACTION: Withdrawal of direct final rule.

SUMMARY: Due to the receipt of an adverse comment, the Environmental Protection Agency (EPA) is withdrawing the September 25, 2017 direct final rule that approved the 2011 base year inventory for the Maryland portion of the Philadelphia-Wilmington-Atlantic City marginal nonattainment area for the 2008 8-hour ozone national ambient air quality standard (NAAQS). EPA stated in the direct final rule that if EPA received adverse comments by October 25, 2017, the rule would be withdrawn and not take effect. EPA subsequently received an adverse comment. EPA will address the comment received in a subsequent final action based upon the proposed action also published on September 25, 2017. EPA will not institute a second comment period on this action.

DATES: As of as of November 17, 2017, the direct final rule published at 82 FR 44522 on September 25, 2017 is withdrawn.

FOR FURTHER INFORMATION CONTACT: Sara Calcinore, (215) 814-2043, or by email at calcinore.sara@epa.gov.

SUPPLEMENTARY INFORMATION: On May 21, 2012, the Philadelphia-Wilmington-Atlantic City area was designated as marginal nonattainment for the 2008 8-hour ozone NAAQS. 77 FR 30088. The Philadelphia-Wilmington-Atlantic City nonattainment area is comprised of Cecil County in Maryland, as well as counties in Delaware, New Jersey, and Pennsylvania. Under section 172(c)(3) of the Clean Air Act (CAA), Maryland is required to submit a comprehensive, accurate, and current inventory of actual emissions from all sources of the relevant pollutants, i.e. the ozone precursors nitrogen oxides (NOX) and volatile organic compounds (VOCs), in its marginal nonattainment area, i.e., the Maryland portion of the Philadelphia-Wilmington-Atlantic City nonattainment area. On January 19, 2017, the State of Maryland, through the Maryland Department of the Environment (MDE), submitted a formal revision (state implementation plan (SIP) # 16-15) to its SIP. The SIP revision consists of the 2011 base year inventory for the Maryland portion of the Philadelphia-Wilmington-Atlantic City nonattainment area for the 2008 8-hour ozone NAAQS.

EPA approved Maryland's 2011 base year inventory for the Maryland portion of the Philadelphia-Wilmington-Atlantic City nonattainment area for the 2008 8-hour ozone NAAQS in the direct final rule published on September 25, 2017 (82 FR 44522). In this direct final rule, we stated that if we received adverse comment by October 25, 2017, the rule would be withdrawn and not take effect. EPA subsequently received an adverse comment. On September 25, 2017 (82 FR 44522), EPA simultaneously proposed to approve Maryland's 2011 base year inventory for the Maryland portion of the Philadelphia-Wilmington-Atlantic City nonattainment area for the 2008 8-hour ozone NAAQS. EPA will address the comment received in a subsequent final action based upon this proposed action and will not institute a second comment period on this action.

As a result of the comment received, EPA is withdrawing the direct final rule approving Maryland's 2011 base year inventory for the Maryland portion of the Philadelphia-Wilmington-Atlantic City nonattainment area for the 2008 8-hour ozone NAAQS.

List of Subjects in 40 CFR Part 52

Environmental protection, Air pollution control, Incorporation by reference, Nitrogen dioxide, Ozone, Reporting and recordkeeping requirements, Volatile organic compounds.

Dated: November 3, 2017.
Cosmo Servidio,
Regional Administrator, Region III.

Accordingly, the amendment to § 52.1070(e) published on September 25, 2017 (82 FR 44522), which were to become effective November 24, 2017, is withdrawn.

[FR Doc. 2017-24885 Filed 11-16-17; 8:45 am]

BILLING CODE 6560-50-P